DEPARTMENT OF HOMELAND SECURITY

Coast Guard

33 CFR Part 117

[CGD01-04-121]

Drawbridge Operation Regulations: Annisquam River and Blynman Canal, MA

AGENCY: Coast Guard, DHS.

ACTION: Notice of temporary deviation from regulations.

SUMMARY: The Commander, First Coast Guard District, has issued a temporary deviation from the drawbridge operation regulations for the SR 127 Bridge, mile 0.0, across the Annisquam River, Blynman Canal, at Gloucester, Massachusetts. This deviation allows the bridge to remain in the closed position from 6 a.m. on November 6, 2004 through 6 p.m. on November 7, 2004. In the event of inclement weather the alternate bridge closure would be from 6 a.m. on November 13, 2004 through 6 p.m. on November 14, 2004. This temporary deviation is necessary to facilitate structural repairs at the bridge.

DATES: This deviation is effective from November 6, 2004 through November 14, 2004.

FOR FURTHER INFORMATION CONTACT: John McDonald, Project Officer, First Coast Guard District, at (617) 223-8364.

SUPPLEMENTARY INFORMATION: The SR 127 Bridge, at mile 0.0, across the Annisquam River, Blynman Canal, has a vertical clearance of 7 feet at mean high water, and 16 feet at mean low water in the closed position. The existing regulations are listed at 33 CFR 117.586.

The bridge owner, Massachusetts Highway Department, requested a temporary deviation from the drawbridge operating regulations to facilitate necessary structural repairs, the replacement of the swing cables, at the bridge.

This deviation to the operating regulations allows the SR 127 Bridge to remain in the closed position from 6 a.m. on November 6, 2004 through 6 p.m. on November 7, 2004. In the event the repair work scheduled above can not be performed due to inclement weather an alternate bridge closure will be implemented from 6 a.m. on November 13, 2004 through 6 p.m. on November 14, 2004.

This deviation from the operating regulations is authorized under 33 CFR 117.35 and will be performed with all due speed in order to return the bridge to normal operation as soon as possible.

Dated: September 17, 2004.
David P. Pekoske,
Rear Admiral, U.S. Coast Guard, Commander, First Coast Guard District.

[FR Doc. 04-22275 Filed 10-1-04; 8:45 am]

BILLING CODE 4910-15-P